DEPARTMENT OF ENERGY

Energy Information Administration

Agency Information Collection Activities: Cancellation of Proposed Collection; Comment Request

AGENCY: Energy Information Administration, DOE.

ACTION: Cancellation of agency information collection activities: Proposed collection; comment request.

SUMMARY: This notice rescinds the notice published in the Federal Register of December 26, 2000, FR Doc. 00-32857, on page 81516, soliciting comments concerning the proposed revision, and extension to the form RW-859, “Nuclear Fuel Data Survey.” A revised Federal Register notice soliciting comments will be published in early May, 2001.

Dated: January 3, 2001.
Jay H. Casselberry,
Agency Clearance Officer, Statistics and Methods Group, Energy Information Administration.

[FR Doc. 01-589 Filed 1-8-01; 8:45 am]

BILLING CODE 6450-01-P